DEPARTMENT OF THE INTERIOR

United States Fish and Wildlife Service

Information Collection To Be Submitted to the Office of Management and Budget (OMB) for Approval Under the Paperwork Reduction Act (PRA)

ACTION: New Information Collection.

SUMMARY: The U.S. Fish and Wildlife Service (Service) plans to submit the collection of information requirement described below to the Office of Management and Budget (OMB) for approval under the provisions of the Paperwork Reduction Act (PRA). You may obtain copies of the collection requirement and related forms and explanatory material by contacting the Service's Information Collection Clearance Officer at the phone number listed below. The Service is soliciting comments and suggestions on the requirement as described below.

DATES: Interested parties must submit comments on or before November 14, 2000.

ADDRESSES: Interested parties should send comments and suggestions on the requirement to Rebecca A. Mullin, Information Collection Officer, U.S. Fish and Wildlife Service, 4401 North Fairfax Drive, Suite 222, Arlington, VA 22203, (703) 358-2287 or Rebecca Mullins@fws.gov E-mail.

FOR FURTHER INFORMATION CONTACT: Jack Hicks, (703) 358-1851, fax (703) 358-1837, or Jack Hicks@fws.gov E-mail.

SUPPLEMENTARY INFORMATION: Title of Forms: Summary Information for Ranking National Coastal Wetlands Conservation Grant Program Proposal.

Description and Use: The Service administers the National Coastal Wetlands Conservation Grant program authorized by the Coastal Wetlands Planning, Protection and Restoration Act. The Service uses the information collected to evaluate proposals under this program. This includes summarized information on habitat, coastal barriers, levels of conservation, watershed management, threatened and/or endangered species potentially involved, benefits of the restoration proposed, partners, cost sharing, education/outreach impact, impact on wildlife-oriented recreation and other benefits and determining if the estimated cost is reasonable.

Service Form Numbers: 3-2179 (Summary Information for Ranking National Coastal Wetlands Conservation Grant Program Porposals).

Supplemental Information: The Service plans to submit the following informatioin collection requirements to OMB for review and approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected, and (4) ways to minimize the burden of collection of information on respondents, including through the use of appropriate automated, electronic, mechanical, or other technological collection techniques or other forms of information technology.

Frequency: Generally annually.

Description of Respondents: States, the Commonwealth of Puerto Rico, the Commonwealth of the Northern Mariana Islands, Guam, the Virgin Islands, and American Samoa.

Completion Time and Annual Response and Burden Estimate:

Form name | Completion time per form | Annual response | Annual burden
Summary Information for Ranking National Coastal Wetlands Conservation Grant Program Proposals | ½ hour | 35 Forms | 17½ Hours.

While the summary form is five pages long the ½ hour estimated burden is accurate. Agencies applying for grants will have all of the information readily available in the proposals they have prepared.

BILLING CODE 4310-55-M

Dated: September 11, 2000.
Rebecca A. Mullin,
Service Information Collection Clearance Officer.

[FR Doc. 00-23789 Filed 9-14-00; 8:45 am]

BILLING CODE 4310-55-C